NATIONAL FOUNDATION ON THE ARTS AND THE HUMANITIES

Institute of Museum and Library Services; Solicitation of Public Comments on Guidelines for Ensuring and Maximizing the Quality Objectivity, Utility, and Integrity of Information Disseminated by the Institute of Museum and Library Services

AGENCY: Institute of Museum and Library Services.

ACTION: Notice and request for public comment.

SUMMARY: The Institute of Museum and Library Services (IMLS) announces that its draft Guidelines for Ensuring and Maximizing the Quality, Objectivity, Utility, and Integrity of Information Disseminated by the Institute of Museum and Library Services have been posted on its Web site, www.imls.gov. IMLS invites public comments on its draft Guidelines and will consider the comments received in developing its final Guidelines.

DATES: Comments are due on or before September 15, 2002. Final Guidelines are to be published by October 1, 2002.

ADDRESSES: Submit comments to the Office of General Counsel, Institute of Museum and Library Services, 1100 Pennsylvania Avenue, NW., Washington, DC 20506, nweiss@imls.gov.

FOR FURTHER INFORMATION CONTACT: Nancy E. Weiss, General Counsel, telephone 202-606-5414, nweiss@imls.gov. Hearing-impaired individuals may contact IMLS by TDD/TTY at 202-8636.

SUPPLEMENTARY INFORMATION: Section 515 of the Treasury and General Government Appropriations Act for FY 2001 (Pub. L. 106-554) requires each Federal agency to publish guidelines for ensuring and maximizing the quality, objectivity, utility, and integrity of the information it disseminates. Agency guidelines must be based on government-wide guidelines issued by the Office of Management and Budget (OMB) (see 67 FR 8451-8460). In compliance with this statutory requirement and OMB instructions, IMLS has posted its draft Information Quality Guidelines on its Web site (www.imls.gov).

The Guidelines describe the agency's procedures for ensuring the quality of information that it disseminates and the procedures by which an affected person may obtain correction of information disseminated by IMLS that does not comply with the Guidelines. IMLS invites public comments on its draft Guidelines and will consider the comments received in developing its proposed final Guidelines, which must be submitted to OMB for review. The agency's final Guidelines are to be published by October 1, 2002. Persons who cannot access the draft Guidelines through the Internet may request a paper or electronic copy by contacting the Office of the General Counsel.

Dated: August 12, 2002.
Nancy E. Weiss,
Federal Register Officer, National Foundation on the Arts and the Humanities, Institute of Museum and Library Services.

[FR Doc. 02-20790 Filed 8-15-02; 8:45 am]

BILLING CODE 7036-01-M